DEPARTMENT OF HEALTH AND HUMAN SERVICES

Administration for Children and Families

Expedited Office of Management and Budget Review and Public Comment: Office of Community Services Affordable Housing and Supportive Services Demonstration Data Collection (New Collection)

AGENCY: Office of Community Services, Administration for Children and Families, U.S. Department of Health and Human Services

ACTION: Request for public comments.

SUMMARY: The Office of Community Services (OCS), Administration for Children and Families (ACF), U.S. Department of Health and Human Services (HHS), is requesting expedited review of an information collection request from the Office of Management and Budget (OMB) and inviting public comments on the proposed collection. The Affordable Housing and Supportive Services Demonstration was appropriated by the Departments of Labor, Health and Human Services, and Related Agencies Appropriations Bill, 2023 through the Social Services Research Demonstration program (SSRD). The House report language directs ACF to provide a report on the findings of this demonstration within 1 year after grants are awarded. ACF is soliciting public comment within the next 30 days and requesting expedited approval from OMB to collect information to study the implementation of this demonstration program to inform this report. Following initial approval, ACF will request an extension of approval within 6 months. This extension process will include additional commenting opportunities.

DATES: Comments due within February 15, 2024. In compliance with the requirements of the Paperwork Reduction Act of 1995, ACF is soliciting public comment on the specific aspects of the information collection described in this notice.

ADDRESSES: Copies of the proposed collection of information can be obtained and comments may be submitted by emailing infocollection@acf.hhs.gov. Identify all by the title of the information collection.

SUPPLEMENTARY INFORMATION:

Description: ACF is requesting that OMB grant a 180-day approval for this request under procedures for expedited processing. A request for review under normal procedures will be submitted within 180 days of the approval for this request. Given the Congressional directive for a report on the Affordable Housing and Supportive Services Demonstration within 1 year, OCS has prepared data collection instruments to study the implementation of this demonstration program with the intent to produce a robust report to Congress. Under normal circumstances, OCS would submit the data collection instruments through a standard information collection request with OMB. However, the short timeframe attached to the Congressional directive make it reasonably likely that the use of normal clearance procedures to comply with the Paperwork Reduction Act would cause this Congressional deadline to be missed. If OCS were to proceed with the normal timeline for OMB review and approval, OCS would be unable to collect, clean, analyze, and consolidate program data such that it would be accessible for the report to Congress due within 1 year. Thus, OCS is requesting emergency OMB approval of this data collection to ensure we can accommodate the Congressional request for a report on the findings of this demonstration within 1 year. OCS is hoping to center the study around three main research categories—implementation of supportive services in affordable housing, changes in participant access to supportive services in affordable housing, and overall participant experience and outcomes along several variables of interest. Ultimately, OCS hopes to illustrate how supportive services are implemented in affordable housing spaces by program directors and caseworkers, and also demonstrate participant experiences accessing those services in the affordable housing setting, as well as which services and supports worked to improve resident well-being and overall self-sufficiency. To answer these research questions, OCS will engage in the following activities:

• Collecting program official, caseworker, and resident beneficiary level data from the Affordable Housing and Supportive Services Demonstration.

• Conducting interviews with program officials and caseworkers that administer the supportive services to residents living in affordable housing units to better understand their program implementation efforts and responses to resident needs.

• Conducting focus groups with beneficiary residents to understand their needs and experiences with the supportive services offered in their affordable housing residence.

• Administering a self-sufficiency matrix to beneficiary residents to assess any change or improvement in beneficiary resident reporting of overall self-sufficiency and wellbeing, which is measured using several indicators, with the receipt of additional supportive services in the affordable housing setting.

Respondents: There will be three types of respondents to the proposed instruments. First, the direct beneficiaries living in the residential housing communities will respond to instruments 1, 2, and 3. Second, the program directors/administrative staff will respond to instruments 4, 5, 6, and 7. Finally, the caseworkers providing direct support to beneficiaries will respond to instrument 8. Caseworkers may also be asked to support the implementation and administration of instruments 1, 2, and 3.

Annual Burden Estimates
Instrument | Total number of respondents | Total number of responses per respondent | Average burden hours per response | Total/ annual burden hours
1—Self-Sufficiency Matrix | 560 | 2 | 1.5 | 1,680
2—Service Receipt Questionnaire | 560 | 2 | .25 | 280
3—Resident Focus Group | 25 | 1 | 1.5 | 37.5
4—Quarterly PPR Questions | 9 | 4 | 2 | 72
5—Semi-Annual Report MANDATORY | 9 | 2 | 3 | 54
6—Semi-Annual Report OPTIONAL | 3 | 2 | 1 | 6
7—Interviews of Program Directors | 18 | 1 | 1.5 | 27
8—Interviews of Caseworkers | 18 | 1 | 1 | 18
Estimated Total Annual Burden Hours |  |  |  | 2,174.5

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication. Comments will be considered and any necessary updates to materials made prior to, and responses provided in, the submission to OMB that will follow this public comment period.

Authority: Sec. 1110, Social Security Act, 42 U.S.C. 1310.

Mary B. Jones,
ACF/OPRE Certifying Officer.

[FR Doc. 2024-00648 Filed 1-12-24; 8:45 am]

BILLING CODE 4184-24-P